DEPARTMENT OF COMMERCE

International Trade Administration

[A-570-881]

Malleable Cast Iron Pipe Fittings from the People's Republic of China: Final Results of Expedited Sunset Review of Antidumping Duty Order.

AGENCY: Import Administration, International Trade Administration, Department of Commerce

EFFECTIVE DATE: March 10, 2009

SUMMARY: On November 3, 2008, the Department of Commerce (“Department”) initiated a sunset review of the antidumping duty order on malleable cast iron pipe fittings from the People's Republic of China (“PRC”). On the basis of a notice of intent to participate, and an adequate substantive response from domestic interested parties, as well as a lack of response from respondent interested parties, the Department conducted an expedited (120-day) sunset review. As a result of the sunset review, the Department finds that revocation of the antidumping duty order would be likely to lead to continuation or recurrence of dumping. The dumping margins are identified in the Final Results of Review section of this notice.

FOR FURTHER INFORMATION CONTACT: Sergio Balbontín, AD/CVD Operations, Office 8, Import Administration, International Trade Administration, U.S. Department of Commerce, 14th Street and Constitution Avenue, NW, Washington, DC 20230; Telephone: (202) 482-6478.

SUPPLEMENTARY INFORMATION:

Background

On November 3, 2008, the Department published the notice of initiation of the sunset review of the antidumping duty order on malleable cast iron pipe fittings (“MCP”) from the PRC pursuant to section 751(c) of the Tariff Act of 1930, as amended (“the Act”). See Initiation of Five-year (“Sunset”) Review, 73 FR 65292 (November 3, 2008). On November 11, 2008, the Department received a notice of intent to participate from domestic interested parties, Anvil International, Inc. and Ward Manufacturing, Inc. (collectively “domestic interested parties”), within the deadline specified in section 351.218(d)(1)(i) of the Department's regulations. The domestic interested parties claimed interested party status under section 771(9)(C) of the Act as domestic producers of MCP in the United States. On December 2, 2008, the Department received a substantive response from the domestic interested parties within the deadline specified in section 351.218(d)(3)(i) of the Department's regulations. The Department did not receive a response from any respondent interested parties to this proceeding. As a result, pursuant to section 751(c)(3)(B) of the Act and section 351.218(e)(1)(ii)(C)(2) of the Department's regulations, the Department determined to conduct an expedited review of the order. See Memorandum to the File titled, “Adequacy Determination: Sunset Review of the Antidumping Duty Order on Malleable Cast Iron Pipe Fittings from the People's Republic of China,” dated January 13, 2009.

Scope of the Order

The products covered by the antidumping duty order are certain malleable iron pipe fittings, cast, other than grooved fittings, from the PRC. The merchandise is classified under item numbers 7307.19.90.30, 7307.19.90.60 and 7307.19.90.80 of the Harmonized Tariff Schedule (HTSUS). Excluded from the scope of the order are metal compression couplings, which are imported under HTSUS number 7307.19.90.80. A metal compression coupling consists of a coupling body, two gaskets, and two compression nuts. These products range in diameter from 1/2 inch to 2 inches and are carried only in galvanized finish. Although HTSUS subheadings are provided for convenience and customs purposes, the Department's written description of the scope of this proceeding is dispositive.

Analysis of Comments Received

All issues raised in this review are addressed in the “Issues and Decision Memorandum” (“Decision Memorandum”) from John M. Andersen, Acting Deputy Assistant Secretary for Antidumping and Countervailing Duty Operations, to Ronald K. Lorentzen, Acting Assistant Secretary for Import Administration, dated concurrently with this notice, and is hereby adopted by this notice. The issues discussed in the Decision Memorandum include the likelihood of continuation or recurrence of dumping and the magnitude of the margins likely to prevail if the order were revoked. Parties can find a complete discussion of all issues raised in this review and the corresponding recommendations in this public memorandum, which is on file in the Central Records Unit in room 1117 of the main Commerce building.

In addition, a complete version of the Decision Memorandum can be accessed directly on the web at http://ia.ita.doc.gov/frn. The paper copy and electronic version of the Decision Memorandum are identical in content.

Final Results of Review

Pursuant to section 752(c) of the Act, we determine that revocation of the antidumping duty order on MCP from the PRC would be likely to lead to continuation or recurrence of dumping at the following weighted-average percentage margins:

Exporter/Manufacturer | Margin(percent)
Beijing Sai Lin Ke Hardware Co. Ltd. (“SLK”) | 15.92
Langfang Pannext Pipe Fitting Co., Ltd. | 7.35
Chengde Malleable Iron General Factory (“Chengde”) | 11.18
SCE Co., Ltd. (“SCE”) | 11.18
Jinan Meide Casting Co., Ltd. | 11.31
PRC-Wide | 111.36

This notice also serves as the only reminder to parties subject to administrative protective orders (“APO”) of their responsibility concerning the return or destruction of proprietary information disclosed under APO in accordance with section 351.305 of the Department's regulations. Timely notification of the return or destruction of APO materials or conversion to judicial protective order is hereby requested. Failure to comply with the regulations and terms of an APO is a violation which is subject to sanction.

We are issuing and publishing the results and notice in accordance with sections 751(c), 752(c), and 777(i)(1) of the Act.

Dated: March 3, 2009.
Ronald K. Lorentzen,
Acting Assistant Secretary for Import Administration.

[FR Doc. E9-5086 Filed 3-9-09; 8:45 am]

BILLING CODE 3510-DS-S